NUCLEAR REGULATORY COMMISSION

Request To Amend a License To Export High-Enriched Uranium

Pursuant to 10 CFR 110.70 (b) “Public Notice of Receipt of an Application,” please take notice that the Nuclear Regulatory Commission (NRC) has received the following request for an export license amendment. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81 should be submitted within thirty (30) days after publication of this notice in the Federal Register to Office of the Secretary, U.S. Nuclear Regulatory Commission, Washington, DC 20555, Attention: Rulemaking and Adjudications.

The information concerning this export license amendment application follows.

NRC Export License Amendment Application
Description of Material
Name of applicant Date of application Date received Application No. Docket No. | Material type | Total quantity | End use | Recipient country
U.S. Department of Energy, National Nuclear Security Administration March 6, 2013 March 11, 2013 XSNM3622/02 11006024 | No change in material (High-Enriched Uranium (93.35%)) | No increase (93.1 kilograms U-235 contained in 99.7 kilograms uranium) | Amend to add the LVR-15 Research Reactor in the Czech Republic to the list of research reactor intermediate foreign consignees for target irradiation. No other changes to the existing license which authorizes the export of HEU to Belgium for ultimate use as fuel or targets for medical isotope production | Irradiated targets will ultimately be processed for medical isotope production at the Institute for Radioelements in Belgium.

Dated this 14th day of March 2013 at Rockville, Maryland.
For the Nuclear Regulatory Commission.
Mark R. Shaffer,
Deputy Director, Office of International Programs.

[FR Doc. 2013-06733 Filed 3-22-13; 8:45 am]

BILLING CODE 7590-01-P